DEPARTMENT OF TRANSPORTATION

Federal Aviation Administration

Executive Committee of the Aviation Rulemaking Advisory Committee; Meeting

AGENCY: Federal Aviation Administration (FAA), DOT.

ACTION: Notice of meeting.

SUMMARY: The FAA is issuing this notice to advise the public of a meeting of the Executive Committee of the Aviation Rulemaking Advisory Committee.

DATES: The meeting will be held on December 14, 2011, at 10 a.m.

ADDRESSES: The meeting will take place at the Federal Aviation Administration, 800 Independence Avenue SW., Washington, DC 20591, 10th floor, MacCracken Room.

FOR FURTHER INFORMATION CONTACT: Renee Butner, Federal Aviation Administration, 800 Independence Avenue SW., Washington, DC 20591, telephone (202) 267-5093; fax (202) 267-5075; Email: Renee.Butner@faa.gov.

SUPPLEMENTARY INFORMATION: Under section 10(a)(2) of the Federal Advisory Committee Act (5 U.S.C. App. 2), we are giving notice of a meeting of the Executive Committee of the Aviation Rulemaking Advisory Committee taking place on December 14, 2011, at the Federal Aviation Administration, 800 Independence Avenue SW., Washington, DC 20591. The Agenda includes:

1. Rulemaking Prioritization Working Group (RPWG) recommendation report.

2. New ARAC task: Commercial Air Tour Voluntary Accreditation Program.

3. Status Report from FAA on ARAC Recommendations:

a. Process Improvement Working Group (PIWG).

b. Air Tour Maintenance (CATM).

c. Part 147.

4. Status Reports from Assistant Chairs.

5. Remarks from other EXCOM members.

Attendance is open to the interested public but limited to the space available. The FAA will arrange teleconference service for individuals wishing to join in by teleconference if we receive notice by December 5. Arrangements to participate by teleconference can be made by contacting the person listed in the FOR FURTHER INFORMATION CONTACT section. Callers outside the Washington metropolitan area are responsible for paying long-distance charges.

The public must arrange by December 5 to present oral statements at the meeting. The public may present written statements to the executive committee by providing 25 copies to the Executive Director, or by bringing the copies to the meeting.

If you are in need of assistance or require a reasonable accommodation for this meeting, please contact the person listed under the heading FOR FURTHER INFORMATION CONTACT.

Issued in Washington, DC, on November 17, 2011.
Pamela A. Hamilton-Powell,
Executive Director, Aviation Rulemaking Advisory Committee.

[FR Doc. 2011-30247 Filed 11-22-11; 8:45 am]

BILLING CODE 4910-13-P